DEPARTMENT OF LABOR

Employment and Training Administration

[TA-W-41,669]

Hankinson International Now Known as SPX, Corporation, Pneumatic Products Corporation, Washington, PA; Amended Certification Regarding Eligibility To Apply for Worker Adjustment Assistance

In accordance with section 223 of the Trade Act of 1974 (19 U.S.C. 2273) the Department of Labor issued a Certification of Eligibility to Apply for Worker Adjustment Assistance on August 28, 2002, applicable to workers of Hankinson International, Washington, Pennsylvania. The notice was published in the Federal Register on September 10, 2002 (67 FR 57456).

At the request of the United Steelworkers of America, Local 14693, the Department reviewed the certification for workers of the subject firm. The workers are engaged in the production of compressed air treatment equipment.

New information shows that SPX Corporation purchased Hankinson Corporation, Washington, Pennsylvania in February, 2003 and is now known as SPX Corporation, Pneumatic Products Corporation. Workers separated from employment at the subject firm had their wages reported under a separate unemployment insurance (UI) tax account for SPX Corporation, Pneumatic Products Corporation.

Accordingly, the Department is amending the certification to properly reflect this matter.

The intent of the Department's certification is to include all workers of Hankinson International, Washington, Pennsylvania who were adversely affected by increased imports.

The amended notice applicable to TA-W-41,669 is hereby issued as follows:

All workers of Hankinson International, now known as SPX Corporation, Pneumatic Products Corporation, Washington, Pennsylvania, who became totally or partially separated from employment on or after May 24, 2001, through August 28, 2004, are eligible to apply for adjustment assistance under Section 223 of the Trade Act of 1974.

Signed at Washington, DC, this 23rd day of April 2003.
Elliott S. Kushner,
Certifying Officer, Division of Trade Adjustment Assistance.

[FR Doc. 03-11280 Filed 5-6-03; 8:45 am]

BILLING CODE 4510-30-P